NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities will hold twelve meetings of the Humanities Panel, a federal advisory committee, during March 2020. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

ADDRESSES: The meetings will be held at Constitution Center, 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: March 11, 2020

This meeting will discuss applications on the topics of American History and Literature, for the Scholarly Editions and Translations grant program, submitted to the Division of Research Programs.

2. Date: March 12, 2020

This meeting will discuss applications on the topics of History and Studies of the Americas, for the Collaborative Research grant program, submitted to the Division of Research Programs.

3. Date: March 23, 2020

This meeting will discuss applications on the topics of History and Literature, for the Scholarly Editions and Translations grant program, submitted to the Division of Research Programs.

4. Date: March 23, 2020

This meeting will discuss applications for the Public Humanities Projects: Historic Places (Implementation) grant program, submitted to the Division of Public Programs.

5. Date: March 24, 2020

This meeting will discuss applications on the topic of U.S. History, for the Public Humanities Projects: Exhibitions (Implementation) grant program, submitted to the Division of Public Programs.

6. Date: March 24, 2020

This meeting will discuss applications for the National Digital Newspaper Program, submitted to the Division of Preservation and Access.

7. Date: March 25, 2020

This meeting will discuss applications on the topics of Literature and the Arts, for the Collaborative Research grant program, submitted to the Division of Research Programs.

8. Date: March 26, 2020

This meeting will discuss applications on the topics of Literature and the Arts, for the Collaborative Research grant program, submitted to the Division of Research Programs.

9. Date: March 26, 2020

This meeting will discuss applications on the topic of Cultural History, for Media Projects: Production Grants, submitted to the Division of Public Programs.

10. Date: March 27, 2020

This meeting will discuss applications on the topic of Place-Based History, for the Public Humanities Projects: Exhibitions (Implementation) grant program, submitted to the Division of Public Programs.

11. Date: March 31, 2020

This meeting will discuss applications for the Short Documentaries grant program, submitted to the Division of Public Programs.

12. Date: March 31, 2020

This meeting will discuss applications for Landmarks of American History and Culture Workshops, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: February 11, 2020.
Elizabeth Voyatzis,
Committee Management Officer, National Endowment for the Humanities.

[FR Doc. 2020-03080 Filed 2-14-20; 8:45 am]

BILLING CODE 7536-01-P